DEPARTMENT OF THE TREASURY

Bureau of the Fiscal Service

Senior Executive Service; Fiscal Service Performance Review Board

Authority: 5 U.S.C. 4314(c)(4)

AGENCY: Bureau of the Fiscal Service, Treasury.

ACTION: Notice.

SUMMARY: This notice announces the appointment of the members of the Fiscal Service Performance Review Board (PRB) for the Bureau of the Fiscal Service (Fiscal Service). The PRB reviews the performance appraisals of career senior executives who are below the level of Assistant Commissioner/Executive Director and who are not assigned to the Office of the Commissioner in the Fiscal Service. The PRB makes recommendations regarding proposed performance appraisals, ratings, bonuses, pay adjustments, and other appropriate personnel actions.

DATES: Effective on October 27, 2014.

FOR FURTHER INFORMATION CONTACT: Tracy Walters, Acting Deputy Chief Human Capital Officer, Bureau of the Fiscal Service, (304) 480-8949.

SUPPLEMENTARY INFORMATION: This Notice announces the appointment of the following primary and alternate members to the Fiscal Service PRB:

Primary Members

Kimberly A. McCoy, Deputy Commissioner, Finance and Administration, Fiscal Service

Dara N. Seaman, Assistant Commissioner, Treasury Securities Services, Fiscal Service

Matthew J. Miller, Acting Assistant Commissioner, Governmentwide Accounting, Fiscal Service

Alternate Member

Jeffrey Schramek, Assistant Commissioner, Debt Management Services, Fiscal Service.

Dated: October 22, 2014.
Sheryl Morrow,
Commissioner.

[FR Doc. 2014-25471 Filed 10-24-14; 8:45 am]

BILLING CODE 4810-39-P